FEDERAL HOUSING FINANCE BOARD

[No. 2006-N-08]

Privacy Act of 1974; System of Records

AGENCY: Federal Housing Finance Board.

ACTION: Notice with request for comments.

SUMMARY: As part of a comprehensive review of agency practices related to the collection, use, and protection of personally identifiable information, the Federal Housing Finance Board (Finance Board) is updating both its system of records and implementing rule under the Privacy Act of 1974 (Privacy Act). This notice concerns updates to the Finance Board's Privacy Act system of records. Elsewhere in this issue of the Federal Register, the Finance Board is publishing an interim final rule with request for comments that revises the agency's Privacy Act regulation to include new sections concerning security of systems of records, use and collection of social security numbers, and employee responsibilities under the Privacy Act.

DATES: This amendment will become effective as proposed without further notice on November 16, 2006 unless comments dictate otherwise. The Finance Board will accept comments in writing on or before November 16, 2006.

Comments: Submit comments to the Finance Board only once, using any one of the following methods:

E-mail: comments@fhfb.gov.

Fax: 202-408-2580.

Mail/Hand Delivery: Federal Housing Finance Board, 1625 Eye Street, NW., Washington, DC 20006, ATTENTION: Public Comments.

Federal eRulemaking Portal: http://www.regulations.gov. Follow the instructions for submitting comments. If you submit your comment to the Federal eRulemaking Portal, please also send it by e-mail to the Finance Board at comments@fhfb.gov to ensure timely receipt by the agency. Include the following information in the subject line of your submission: Federal Housing Finance Board. Notice: Privacy Act of 1974; System of Records. Docket Number 2006-N-08.

We will post all public comments we receive without change, including any personal information you provide, such as your name and address, on the Finance Board Web site at http://www.fhfb.gov/Default.aspx?Page=93&Top=93.

FOR FURTHER INFORMATION CONTACT: Janice A. Kaye, Privacy Act Official and Senior Attorney-Advisor, Office of General Counsel, kayej@fhfb.gov or 202-408-2505, or David A. Lee, Chief Privacy Officer and Deputy Director, Office of Management, leed@fhfb.gov or 202-408-2514. You can send regular mail to the Federal Housing Finance Board, 1625 Eye Street, NW., Washington, DC 20006.

SUPPLEMENTARY INFORMATION: In light of the recent theft of sensitive personal information from the various federal agencies and in response to the Office of Management and Budget's memorandum (M-06-15 (May 22, 2006)) directing agencies to review privacy policies and processes, the Finance Board has undertaken a comprehensive review of agency practices related to the collection, use, and protection of personally identifiable information. As a result of that review, the Finance Board has enhanced the safeguards for sensitive information by adding two-factor authentication and data encryption to the agency's network infrastructure and is beginning to implement government-wide personal identity verification management standards that will result in issuance of new ID cards for all employees and contractors that may include full name, date of birth, image (photograph), fingerprints, organization affiliation (e.g., employee or contractor), organization/office of assignment, grade, e-mail address, United States citizenship status, and results of background investigation. The Finance Board also is updating both its Privacy Act system of records and Privacy Act implementing rule.

Pursuant to the requirements of the Privacy Act, the Finance Board is publishing a notice of the amendments to its system of records. See 5 U.S.C. 552a(e)(4) and (11). In July 2005, the Finance Board offices relocated and we are updating the office address in the system of records. We also are updating, as appropriate, certain document retention periods.

With respect to records related to appointed Federal Home Loan Bank directors (system number FHFB-4), responsibility has shifted from the Office of the Chairman to the Office of Supervision.

With respect to records of the Office of Inspector General (OIG), we are adding audit files to the system of records that already covers investigative files (system number FHFB-6). At the request of the OIG, we also are updating the OIG system of records to add several routine uses.

The Finance Board is adding two new systems of records. The first is titled “FHFB-7 Federal Home Loan Bank Examination Work Papers.” It covers documents a Finance Board examiner uses to determine whether a Federal Home Loan Bank's Affordable Housing Program (AHP) complies with applicable laws and regulations. These records may include the names, address, and income information of members of households who participate in a Bank's AHP. These records may be retained as part of the examiner's work papers to document exam conclusions and findings.

The second new system of records is titled “FHFB-8 Personal Identity Verification (PIV) Management System.” In August 2004, the President issued Homeland Security Presidential Directive 12 (HSPD-12), which requires development and use of a common identification standard for federal employees and contractors. The Finance Board intends to begin implementing the HSPD-12 PIV requirements this month. In compliance with HSPD-12, the Finance Board PIV cards may include full name, date of birth, image (photograph), fingerprints, organization affiliation (e.g., employee or contractor), organization/office of assignment, grade, e-mail address, United States citizenship status, results of background investigation, and information necessary to the request for a card, registration, verification, and issuance procedures, the index/database of active and invalid cards, and the information stored on the cards. The Finance Board may retain these records as part of the HSPD-12 credentialing process.

For the reasons stated above, the Finance Board hereby amends its system of records originally published in the Federal Register in 1995, see 60 FR 46120 (September 5, 1995), as amended in 1997, see 62 FR 66865 (December 22, 1997), 1998, see 62 FR 66865 (December 22, 1997), and 2003, see 68 FR 39947 (July 3, 2003), as follows:

1. Amend the system of records entitled FHFB-1 Employee Attendance Records as follows:

FHFB-1

System name:

Employee Attendance Records.

* * * * *

System location:

Federal Housing Finance Board, 1625 Eye Street, NW., Washington, DC 20006.

* * * * *

System manager(s) and address:

Office of Management, Federal Housing Finance Board, 1625 Eye Street, NW., Washington, DC 20006.

Notification procedure:

Direct inquiries as to whether this system contains a record pertaining to an individual to the Privacy Act Official, Federal Housing Finance Board, 1625 Eye Street, NW., Washington, DC 20006, in accordance with the procedures set forth in 12 CFR part 913.

Record access procedures:

Direct requests for access to a record to the Privacy Act Official, Federal Housing Finance Board, 1625 Eye Street, NW., Washington, DC 20006, in accordance with the procedures set forth in 12 CFR part 913.

Contesting record procedures:

Direct requests to amend a record to the Privacy Act Official, Federal Housing Finance Board, 1625 Eye Street, NW., Washington, DC 20006, in accordance with the procedures set forth in 12 CFR part 913.

* * * * *

2. Amend the system of records entitled FHFB-2 General Travel and Transportation Files as follows:

FHFB-2

System name:

General Travel and Transportation Files.

* * * * *

System location:

Federal Housing Finance Board, 1625 Eye Street, NW., Washington, DC 20006.

* * * * *

Policies and practice for storing, retrieving, accessing, retaining and disposing of records in the system:

* * * * *

Retention and disposal:

Records are retained for 6 years and 3 months after final payment and then destroyed.

System manager(s) and address:

Office of Management, Federal Housing Finance Board, 1625 Eye Street, NW., Washington, DC 20006.

Notification procedure:

Direct inquiries as to whether this system contains a record pertaining to an individual to the Privacy Act Official, Federal Housing Finance Board, 1625 Eye Street, NW., Washington, DC 20006, in accordance with the procedures set forth in 12 CFR part 913.

Record access procedures:

Direct requests for access to a record to the Privacy Act Official, Federal Housing Finance Board, 1625 Eye Street, NW., Washington, DC 20006, in accordance with the procedures set forth in 12 CFR part 913.

Contesting record procedures:

Direct requests to amend a record to the Privacy Act Official, Federal Housing Finance Board, 1625 Eye Street, NW., Washington, DC 20006, in accordance with the procedures set forth in 12 CFR part 913.

* * * * *

3. Amend the system of records entitled FHFB-3 Administrative Grievance Files as follows:

FHFB-3

System name:

Administrative Grievance Files.

* * * * *

System location:

Federal Housing Finance Board, 1625 Eye Street, NW., Washington, DC 20006.

* * * * *

Policies and practice for storing, retrieving, accessing, retaining and disposing of records in the system:

* * * * *

Retention and disposal:

Records are destroyed 2 years after closure of a case.

System manager(s) and address:

Office of Management, Federal Housing Finance Board, 1625 Eye Street, NW., Washington, DC 20006.

Notification procedure:

Direct inquiries as to whether this system contains a record pertaining to an individual to the Privacy Act Official, Federal Housing Finance Board, 1625 Eye Street, NW., Washington, DC 20006, in accordance with the procedures set forth in 12 CFR part 913.

Record access procedures:

Direct requests for access to a record to the Privacy Act Official, Federal Housing Finance Board, 1625 Eye Street, NW., Washington, DC 20006, in accordance with the procedures set forth in 12 CFR part 913.

Contesting record procedures:

Direct requests to amend a record to the Privacy Act Official, Federal Housing Finance Board, 1625 Eye Street, NW., Washington, DC 20006, in accordance with the procedures set forth in 12 CFR part 913.

* * * * *

4. Amend the system of records entitled FHFB-4 Federal Home Loan Bank Appointive Director Eligibility Certification Forms as follows:

FHFB-4

System name:

Federal Home Loan Bank Appointive Director Certification Forms.

* * * * *

System location:

Federal Housing Finance Board, 1625 Eye Street, NW., Washington, DC 20006.

* * * * *

System manager(s) and address:

Office of Supervision, Federal Housing Finance Board, 1625 Eye Street, NW., Washington, DC 20006.

Notification procedure:

Direct inquiries as to whether this system contains a record pertaining to an individual to the Privacy Act Official, Federal Housing Finance Board, 1625 Eye Street, NW., Washington, DC 20006, in accordance with the procedures set forth in 12 CFR part 913.

Record access procedures:

Direct requests for access to a record to the Privacy Act Official, Federal Housing Finance Board, 1625 Eye Street, NW., Washington, DC 20006, in accordance with the procedures set forth in 12 CFR part 913.

Contesting record procedures:

Direct requests to amend a record to the Privacy Act Official, Federal Housing Finance Board, 1625 Eye Street, NW., Washington, DC 20006, in accordance with the procedures set forth in 12 CFR part 913.

* * * * *

5. Amend the system of records entitled FHFB-5 Agency Personnel Investigative Records as follows:

FHFB-5

System name:

Personnel Investigative Records.

* * * * *

System location:

Federal Housing Finance Board, 1625 Eye Street, NW., Washington, DC 20006.

Categories of individuals covered by the system:

Current and former Finance Board employees and current and former contractor personnel.

* * * * *

System manager(s) and address:

Office of Management, Federal Housing Finance Board, 1625 Eye Street, NW., Washington, DC 20006.

Notification procedure:

Direct inquiries as to whether this system contains a record pertaining to an individual to the Privacy Act Official, Federal Housing Finance Board, 1625 Eye Street, NW., Washington, DC 20006, in accordance with the procedures set forth in 12 CFR part 913.

Record access procedures:

Direct requests for access to a record to the Privacy Act Official, Federal Housing Finance Board, 1625 Eye Street, NW., Washington, DC 20006, in accordance with the procedures set forth in 12 CFR part 913.

Contesting record procedures:

Direct requests to amend a record to the Privacy Act Official, Federal Housing Finance Board, 1625 Eye Street, NW., Washington, DC 20006, in accordance with the procedures set forth in 12 CFR part 913.

* * * * *

6. Amend the system of records entitled FHFB-6 Office of Inspector General Investigative Records to read as follows:

FHFB-6

System name:

Office of Inspector General Audit and Investigative Records.

Security classification:

None.

System location:

Federal Housing Finance Board, 1625 Eye Street, NW., Washington, DC 20006.

Categories of individuals covered by the system:

1. Current and former Finance Board employees, others involved in or associated with Finance Board programs or operations including contractors and subcontractors, and any other persons who are or have been audited or under investigation by the Finance Board's Office of Inspector General (OIG) in order to determine whether the agency or these individuals have been or are engaging in waste, fraud, or abuse with respect to Finance Board programs or operations or other activities that violate federal criminal laws, regulations, or procedures.

2. Complainants and witnesses.

Categories of records in the system:

Files on audits and investigations including audit and investigative reports and related documents generated or obtained prior to, during the course of, or subsequent to an audit or investigation. It includes electronic and hard copy case tracking systems, databases containing investigatory information, “Hotline” telephone logs, auditor or investigator work papers and memoranda, and letter referrals to or from management or others.

Authority for maintenance of the system:

5 U.S.C. App. 4(a)(1) and 6(a)(2).

Purpose(s):

The OIG and other audit and investigative agencies collect, maintain, and use these records to conduct inquiries and investigations and prepare audits, reports, or other documents relating to potential violations of law in the administration of Finance Board programs and operations and to manage the OIG investigatory program.

Routine uses of records maintained in the system, including categories of users and purposes of such uses:

Under normal circumstances, the OIG will not provide individually identifiable records. However, under those unusual circumstances when the OIG must release information contained in an individually identifiable record, the OIG will maintain proper safeguards to protect the information from unwarranted invasion of personal privacy. Subject to this general limitation, these records, or information therefrom, may be disclosed as a routine use to:

1. The appropriate Federal, State, local, or international agency or authority responsible for auditing, investigating, or prosecuting a violation or potential violation of a criminal or civil law, rule, or regulation or for enforcing or implementing a statute, rule, regulation, or order, if information in the system of records indicates such a violation.

2. A court, magistrate, administrative tribunal, or alternative dispute resolution mediator in the course of presenting evidence, including disclosures to counsel or witnesses in the course of civil discovery, litigation, or settlement negotiations or in connection with criminal proceedings when the information is relevant and necessary and the Finance Board is a party to the proceeding or has a significant interest in the proceeding.

3. The legal representative of the Finance Board or another federal agency, including the U.S. Department of Justice, or other retained counsel, when the Finance Board or any of its employees are a party to or have a significant interest in litigation or an administrative proceeding.

4. A grand jury agent pursuant to a grand jury subpoena or to a prosecutor for the purpose of introducing the record to a grand jury.

5. A congressional office in response to an inquiry made at the request of the subject individual.

6. The subjects of an audit or investigation and their representatives or third party sources during the course of an investigation, in order to obtain information or assistance relevant or pertinent to the audit or investigation or relating to an audit, trial, hearing, or any other authorized activity of the OIG.

7. Any source, including a federal, state, or local agency maintaining civil, criminal, or other relevant enforcement information or other pertinent information, such as current licenses, but only to the extent necessary for the OIG to obtain information relevant to an OIG audit or investigation or for the Finance Board to obtain information concerning the hiring or retention of an individual, the issuance of a security clearance, the letting of a contract, or issuance of a grant, license, or other benefit.

8. Another federal agency if the records are relevant and necessary to carry out that agency's authorized functions and to the decision on a matter, including, but not limited to, the hiring or retention of an individual, the issuance of a security clearance, the reporting of an investigation of an individual, the letting of a contract or issuance of a grant, license, or other benefit by the requesting agency, or the rendering of advice requested by the OIG.

9. Other federal Offices of Inspector General, the Government Accountability Office, or a private party with which the OIG or the Finance Board has contracted, for the purpose of auditing, reviewing, or conducting quality assessments or peer reviews of the OIG, provided the record will not be transferred in a form that is individually identifiable, and provided further that the entity acknowledges in writing that it is required to maintain Privacy Act safeguards for the information.

10. A consultant, person, or entity that contracts or subcontracts with the Finance Board or the OIG, to the extent necessary for the performance of the contract or subcontract, provided that the person or entity acknowledges in writing that it is required to maintain Privacy Act safeguards for the information.

11. A governmental, public, professional, or self-regulatory licensing organization when the record indicates, either by itself or in combination with other information, a violation or potential violation of professional standards, or reflects on the qualifications of an individual who is licensed or who is seeking to become licensed.

12. A federal agency responsible for considering a suspension or debarment action to the extent the record is necessary and relevant to the action.

13. The U.S. Department of the Treasury, federal debt collection centers, other appropriate federal agencies, and private collection contractors or other third parties authorized by law, for the purpose of collecting or assisting in the collection of delinquent debts owed to the Finance Board. Disclosure will be limited to the individual's name, Social Security number, and other information necessary to establish the identity of the individual, and the existence, validity, amount, status, and history of the debt.

In addition to the foregoing routine uses, a record that is contained in this system and derived from another Finance Board system of records may be disclosed as a routine use as specified in the Federal Register notice of the system of records from which the records derived.

Disclosure to consumer reporting agencies:

None.

Policies and practice for storing, retrieving, accessing, retaining, and disposing of records in the system:

Storage:

Records are maintained in file folders, computer disks, electronic media, and reports on each investigation.

Retrievability:

Records generally are indexed by name of person under audit or investigation, audit or investigation number, referral number, or audit or investigative subject matter.

Safeguards:

File folders are maintained in safes or lockable metal file cabinets stored in offices that are locked when not in use. Computer disks and electronic media are locked in the lockable metal file cabinets with their related file folders, and information not so lockable is kept in individual offices in locked or password protected computer hardware. Only specifically authorized personnel have access to the information in the cabinets and individual offices.

Retention and disposal:

Records in file folders are retained as long as needed and then destroyed by shredding. Computer disks are cleared, retired, or destroyed when no longer useful. Entries on electronic media are deleted or erased when no longer needed.

System manager(s) and address:

Office of Inspector General, Federal Housing Finance Board, 1625 Eye Street, NW., Washington, DC 20006.

Notification procedure:

Direct inquiries as to whether this system contains a record pertaining to an individual to the Privacy Act Official, Federal Housing Finance Board, 1625 Eye Street, NW., Washington, DC 20006, in accordance with the procedures set forth in 12 CFR part 913.

Record access procedures:

Direct requests for access to a record to the Privacy Act Official, Federal Housing Finance Board, 1625 Eye Street, NW., Washington, DC 20006, in accordance with the procedures set forth in 12 CFR part 913.

Contesting record procedures:

Direct requests to amend a record to the Privacy Act Official, Federal Housing Finance Board, 1625 Eye Street, NW., Washington, DC 20006, in accordance with the procedures set forth in 12 CFR part 913.

Record source categories:

The OIG collects information from many sources including the subject individuals, employees of the Finance Board and the Federal Home Loan Bank System, other government sources, witnesses and informants, and nongovernmental sources.

Exemptions claimed for the system:

Pursuant to 5 U.S.C. 552a(k)(2) or (5), a record contained in this system is exempt from 5 U.S.C. 552a(c)(3), (d), (e)(1), (e)(4)(G), (e)(4)(H), (e)(4)(I) and (f), to the extent that the records consists of investigatory material compiled:

(1) For law enforcement purposes (552a(k)(2)); or

(2) For the purpose of determining suitability, eligibility, or qualifications for federal civilian employment or federal contracts, if disclosure of the record would reveal the identity of a source who furnished information to the government under an express promise that his or her identity would be held in confidence (552a(k)(5)).

Notwithstanding these exemptions, the Finance Board will provide a record if any right, privilege, or benefit to which an individual otherwise would be entitled by Federal law, or for which the individual otherwise would be eligible, is denied as a result of the maintenance of the record, except to the extent that disclosure of the record would reveal the identity of a source who furnished information to the government under an express promise that his or her identity would be held in confidence.

7. Add a new system of records entitled FHFB-7 Federal Home Loan Bank Examination Work Papers to read as follows:

FHFB-7

System name:

Federal Home Loan Bank Examination Work Papers.

Security classification:

None.

System location:

Federal Housing Finance Board, 1625 Eye Street, NW., Washington, DC 20006.

Categories of individuals covered by the system:

Households participating in certain affordable housing programs administered by the Federal Home Loan Banks.

Categories of records in the system:

Records may contain information relating to the household including names, address, and incomes.

Authority for Maintenance of the System:

12 U.S.C. 1422a(a)(3), 1430(j), and 1440.

Purpose(s):

1. Records are collected and maintained in order to provide documentation necessary to determine whether a Federal Home Loan Bank is operating safely and soundly and in compliance with applicable laws and regulations governing the Bank's Affordable Housing Program.

2. To provide information necessary to schedule and conduct examinations and compliance audits of the Federal Home Loan Banks.

Routine uses of records maintained in the system, including categories of users and the purpose of such uses:

Records or information therefrom, may be disclosed as a routine use to:

1. Finance Board staff to determine statutory and regulatory program compliance by Federal Home Loan Banks.

2. The Federal, State, or local agency responsible for investigating, prosecuting, enforcing, or implementing a statute, rule, regulation, or order where there is an indication of a violation or potential violation of civil or criminal law or regulation.

3. A congressional office in response to an inquiry made at the request of that individual.

4. In litigation before a court or in an administrative proceeding being conducted by a federal agency.

5. Respond to a request for discovery or for appearance of a witness.

Disclosure to consumer reporting agencies:

None.

Policies and practice for storing, retrieving, accessing, retaining, and disposing of records in the system:

Storage:

Records may be maintained in file folders and computer disks.

Retrievability:

Records are filed as part of the work papers for an examination or audit of a Federal Home Loan Bank, by name of Bank and date of the audit or examination.

Safeguards:

File folders are maintained in safes or lockable metal file cabinets stored in offices that are locked when not in use. Only specifically authorized personnel have access to the information in the cabinets and individual offices.

Retention and disposal:

Records in file folders are retained as long as needed and then destroyed by shredding. Computer disks are cleared, retired, or destroyed when no longer useful.

System manager(s) and address:

Office of Supervision, Federal Housing Finance Board, 1625 Eye Street, NW., Washington, DC 20006.

Notification procedure:

Direct inquiries as to whether this system contains a record pertaining to an individual to the Privacy Act Official, Federal Housing Finance Board, 1625 Eye Street, NW., Washington, DC 20006, in accordance with the procedures set forth in 12 CFR part 913.

Record access procedures:

Direct requests for access to a record to the Privacy Act Official, Federal Housing Finance Board, 1625 Eye Street, NW., Washington, DC 20006, in accordance with the procedures set forth in 12 CFR part 913.

Contesting record procedures:

Direct requests to amend a record to the Privacy Act Official, Federal Housing Finance Board, 1625 Eye Street, NW., Washington, DC 20006, in accordance with the procedures set forth in 12 CFR part 913.

Record source categories:

Federal Home Loan Banks, Federal Home Loan Bank members, and information submitted by individuals to members for program enrollment and for qualification for a mortgage loan.

Exemptions claimed for the system:

None.

8. Add a new system of records entitled FHFB-8 Personal Identity Verification (PIV) Management System to read as follows:

FHFB-8

System name:

Personal Identity Verification (PIV) Management System.

Security classification:

None.

System location:

Federal Housing Finance Board, 1625 Eye Street, NW., Washington, DC 20006, and Operational Research Consultants, Inc., 11250 Waples Mill, South Tower Suite 210, Fairfax VA 22030.

Categories of individuals covered by the system:

Individuals who require regular, ongoing access to Finance Board facilities, including employees, applicants for employment or contracts, contractors, students, interns, affiliates, and individuals formerly in any of these positions.

Categories of records in the system:

Records may include full name, date of birth, image (photograph), fingerprints, organization affiliation (e.g., employee or contractor), organization/office of assignment, grade, e-mail address, United States citizenship status, results of background investigation, and information necessary to the request for a card, registration, verification, and issuance procedures, the index/database of active and invalid PIV cards, and the information stored on the PIV cards.

Authority for maintenance of the system:

Homeland Security Presidential Directive 12, Policy for a Common Identification Standard for Federal Employees and Contractors (August 27, 2004).

Purpose(s):

1. To ensure the safety and security of Finance Board facilities, systems, and information, and our occupants and users.

2. To verify that all persons entering Finance Board facilities are authorized to do so.

3. To track and control PIV cards issued to persons entering and exiting Finance Board facilities.

Routine uses of records maintained in the system, including categories of users and the purpose of such uses:

Records or information therefrom, may be disclosed as a routine use to:

1. The legal representative of the Finance Board or another federal agency, including the U.S. Department of Justice, or other retained counsel, when the Finance Board or any of its employees are a party to or have a significant interest in litigation or an administrative proceeding.

2. A court, magistrate, administrative tribunal, or alternative dispute resolution mediator in the course of presenting evidence, including disclosures to counsel or witnesses in the course of civil discovery, litigation, or settlement negotiations or in connection with criminal proceedings when the information is relevant and necessary and the Finance Board or any of its employees are a party to or have a significant interest in the proceeding.

3. The appropriate federal, state, local, or international agency or authority responsible for enforcing, investigating, or prosecuting a violation or potential violation of a criminal or civil law, rule, or regulation, or for enforcing or implementing a statute, rule, regulation, or order, if, except as noted on Standard Forms 85, 85-P, and 86, information in the system of records indicates such a violation.

4. A congressional office in response to an inquiry made at the request of the subject individual.

5. A consultant, person, or entity that contracts or subcontracts with the Finance Board, to the extent necessary for the performance of the contract or subcontract, provided that the person or entity acknowledges in writing that it is required to maintain Privacy Act safeguards for the information.

6. Any source, including a federal, state, or local agency maintaining civil, criminal, or other relevant enforcement information or other pertinent information, such as current licenses, but only to the extent necessary to obtain information relevant to the hiring or retention of an individual, the issuance of a security clearance, the letting of a contract, or issuance of a grant, license, or other benefit.

7. Another federal agency if the records are relevant and necessary to carry out that agency's authorized functions and to the decision on a matter, including, but not limited to, the hiring or retention of an individual, the issuance of a security clearance, the reporting of an investigation of an individual, the letting of a contract or issuance of a grant, license, or other benefit by the requesting agency.

8. A federal, state, or local agency, other appropriate entities or individuals, or through established liaison channels to selected foreign governments, to enable an intelligence agency to carry out its responsibilities under the National Security Act of 1947 as amended, the CIA Act of 1949 as amended, Executive Order 12333 or any successor order, applicable national security directives, or classified implementing procedures approved by the Attorney General and promulgated pursuant to such statutes, orders, or directives.

9. Notify another federal agency when, or verify whether, a PIV card is no longer valid.

Disclosure to consumer reporting agencies:

None.

Policies and practice for storing, retrieving, accessing, retaining, and disposing of records in the system:

Storage:

Records are maintained in file folders and electronic media.

Retrievability:

Records are retrievable by name, e-mail address, other ID number, PIV card serial number, image (photograph), or fingerprint.

Safeguards:

File folders are maintained in locked cabinets in secure facilities and access to the files is restricted to individuals whose role requires use of the records. The computer servers in which records are stored are located in facilities that are secured by alarm systems and off-master key access. The computer servers themselves are password-protected. Individuals accessing the system are authenticated using encrypted certificates and data stored to the database require digital signatures. Communication between client and servers is encrypted by https or VPN (virtual private network). Access to individuals working at guard stations is password-protected; each person granted access to the system at guard stations is individually authorized to use the system. A Privacy Act Warning Notice appears on the monitor screen when records containing information on individuals are first displayed. Data exchanged between the servers and the client PCs at the guard stations and badging office are encrypted. Backup tapes are stored in a locked and controlled room in a secure, off-site location.

An audit trail is maintained and reviewed periodically to identify unauthorized access. Persons given roles in the PIV process must complete training specific to their roles to ensure they are knowledgeable about how to protect individually identifiable information.

Retention and disposal:

Records relating to persons' access covered by this system are retained in accordance with General Records Schedule 18 Security and Protective Services Records approved by the National Archives and Records Administration. The records are disposed in accordance with our disposal policies. Unless retained for specific, ongoing security investigations, records of access are maintained for 2 years and then destroyed.

In accordance with HSPD-12, the Finance Board deactivates PIV cards within 18 hours of cardholder separation, loss of card, or expiration. The information on PIV cards is maintained in accordance with General Records Schedule 11 Space and Maintenance Records. PIV cards are destroyed by cross-cut shredding no later than 90 days after deactivation.

System manager(s) and address:

Office of Management, Federal Housing Finance Board, 1625 Eye Street, NW., Washington, DC 20006.

Notification procedure:

Direct inquiries as to whether this system contains a record pertaining to an individual to the Privacy Act Official, Federal Housing Finance Board, 1625 Eye Street, NW., Washington, DC 20006, in accordance with the procedures set forth in 12 CFR part 913.

Record access procedures:

Direct requests for access to a record to the Privacy Act Official, Federal Housing Finance Board, 1625 Eye Street, NW., Washington, DC 20006, in accordance with the procedures set forth in 12 CFR part 913.

Contesting record procedures:

Direct requests to amend a record to the Privacy Act Official, Federal Housing Finance Board, 1625 Eye Street, NW., Washington, DC 20006, in accordance with the procedures set forth in 12 CFR part 913.

Record source categories:

Employee, contractor, or applicant; sponsoring agency; former sponsoring agency; other federal agencies; contract employer; former employer.

Exemptions claimed for the system:

None.

Date: October 11, 2006.
By the Federal Housing Finance Board.
John P. Kennedy,
General Counsel.

[FR Doc. E6-17176 Filed 10-16-06; 8:45 am]

BILLING CODE 6725-01-P